DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are made available for licensing by the Department of the Navy. U.S. Navy Case Number 98,480 entitled “Relay Brick and Deployer”, Inventors Burmeister, Pezeshkian and Nguyen, Filed May 1, 2007.//Navy Case Number 98,795 entitled “Relay Device Deployer System”, Inventors Burmeister, Pezeshkian and Nguyen, Filed August 1, 2007.

ADDRESSES: Requests for data and inventor interviews should be directed to Joan Singel telephone: 406-994-7705, wusingel@montana.edu, TechLink, 900 Technology Blvd., Suite A, Bozeman, MT 59718. TechLink is an authorized DoD partnership intermediary. Requests should be made prior to August 1, 2008.

FOR FURTHER INFORMATION CONTACT: Stephen H. Lieberman, PhD, Office of Research and Technology Applications, Space and Naval Warfare Systems Center, Code 73120, 53560 Hull St, Room 2306, San Diego, CA 92152-5001, telephone: 619-553-2778, e-mail: stephen.lieberman@navy.mil.

SUPPLEMENTARY INFORMATION: The U.S. Navy intends to move expeditiously to license these patents. Licensing application packages are available from TechLink and all applications and commercialization plans must be returned to TechLink by September 19, 2008. Additional information and revisions may be requested by TechLink through September 30, 2008. TechLink will then turn over all completed applications to the U.S. Navy for evaluation and patent licensing award selection.

The Navy intends to insure that its licensed inventions are broadly commercialized throughout the United States.

Authority: 35 U.S.C. 207, 37 CFR part 404.

Dated: July 8, 2008.
T.M. Cruz,
Lieutenant Commander, Judge Advocate General's Corps, U.S. Navy, Federal Register Liaison Officer.

[FR Doc. E8-15944 Filed 7-11-08; 8:45 am]

BILLING CODE 3810-FF-P